DEPARTMENT OF HOMELAND SECURITY

Coast Guard

[Docket No. USCG-2012-0546]

Policy on the 2009 Revision of the International Maritime Organization Code for the Construction and Equipment of Mobile Offshore Drilling Units

AGENCY: Coast Guard, DHS.

ACTION: Notice of availability.

SUMMARY: The Coast Guard announces the availability of CG-ENG Policy Letter 02-12, “Acceptance of the 2009 MODU Code.” On December 2, 2009, the International Maritime Organization (IMO) adopted IMO Assembly Resolution A.1023(26), Code for the Construction and Equipment of Mobile Offshore Drilling Units, 2009 (2009 MODU Code). CG-ENG Policy Letter 02-12 establishes that the Coast Guard considers the design and equipment standards of the 2009 MODU Code to be at least as effective as the design and equipment standards of the 1979 and 1989 versions of the MODU Code. Therefore, an Officer in Charge, Marine Inspection (OCMI) may consider a foreign documented MODU with a valid 2009 MODU Code Certificate issued by the flag state or its authorized agent to comply with 33 CFR 143.207(c) after confirming substantial compliance with the provisions of the 2009 MODU Code.

DATES: CG-ENG Policy Letter 02-12 is effective as of May 7, 2012.

ADDRESSES: This notice and the documents referenced within are available in the docket and can be viewed by going to www.regulations.gov, inserting USCG-2012-0546 in the “Keyword” box, and then clicking “Search.” CG-ENG Policy Letter 02-12 is also available at www.uscg.mil and can be viewed by clicking the link to the Office of Design and Engineering Standards (CG-ENG) under the “Units,” “USCG Headquarters Organization,” and “CG-5P” tabs, and scrolling down to “Policy Documents.”

FOR FURTHER INFORMATION CONTACT: If you have questions on this notice or CG-ENG Policy Letter 02-12, call or email Lieutenant Commander Heather Mattern, Human Element and Ship Design Division (CG-ENG-1), telephone (202) 372-1361, or email Heather.R.Mattern@uscg.mil. If you have questions on viewing material in the docket, call Renee V. Wright, Program Manager, Docket Operations, telephone (202) 366-9826.

SUPPLEMENTARY INFORMATION:

Background and Purpose

Foreign documented MODUs engaged in any offshore activity associated with the exploration for, or development or production of, the minerals of the U.S. Outer Continental Shelf (OCS) must comply with one of three options outlined in 33 CFR 143.207, which deal with design and equipment standards. The majority of foreign MODU operators on the OCS choose to comply with 33 CFR 143.207(c), often referred to as “Option C.” When choosing this option, MODU operators present the OCMI with a valid MODU Code Certificate issued by the flag state or an agent authorized to act on its behalf. Existing regulation and policy permits MODUs to comply with the design and equipment standards in the 1979 MODU Code or 1989 MODU Code.

The Coast Guard has evaluated the 2009 MODU Code, which applies to MODUs, the keels of which are laid or at a similar stage of construction on or after January 1, 2012. The Coast Guard considers the design and equipment standards of the 2009 MODU Code to be at least as effective as the design and equipment standards of the 1979 and 1989 MODU Codes. Therefore, OCMIs may consider a foreign MODU with a valid 2009 MODU Code Certificate issued by the flag state or its authorized agent to be compliant with 33 CFR 143.207(c) after confirming that the MODU is in substantial compliance with the provisions of the 2009 MODU Code.

The guidance in this notice and CG-ENG Policy Letter 02-12 is not a substitute for applicable legal requirements, nor is it itself a rule. It is intended to provide operational guidance for Coast Guard personnel and is not intended to nor does it impose legally binding requirements on any party outside the Coast Guard. It represents the Coast Guard's current thinking on this topic and may assist industry, mariners, the general public, and the Coast Guard, as well as other Federal and State regulators, in applying statutory and regulatory requirements.

This notice is issued under authority of 43 U.S.C. 1331, et seq., 5 U.S.C. 552(a), and 33 CFR 1.05-1.

Dated: July 12, 2012.
J.G. Lantz,
Director of Commercial Regulations and Standards, U.S. Coast Guard.

[FR Doc. 2012-17572 Filed 7-20-12; 8:45 am]

BILLING CODE 9110-04-P